DEPARTMENT OF HEALTH AND HUMAN SERVICES

National Institutes of Health

National Institute of Mental Health; Amended Notice of Meeting

Notice is hereby given of a change in the meeting of the Mental Health Services Research Committee, October 10, 2013, 08:00 a.m. to October 10, 2013, 05:00 p.m., Bethesda Marriott, 5151 Pooks Hill Road, Bethesda, MD, 20814 which was published in the Federal Register on September 04, 2013, 78 FRN 54477.

Due to the Government shutdown, this meeting will now be held on November 14-15, 2013, as a telephone conference meeting at the Neuroscience Center. The meeting is closed to the public.

Dated: October 22, 2013.
Carolyn Baum,
Program Analyst, Office of Federal Advisory Committee Policy.

[FR Doc. 2013-25228 Filed 10-25-13; 8:45 am]

BILLING CODE 4140-01-P